DEPARTMENT OF LABOR

Employment and Training Administration

[TA-W-54,019]

North Manchester Foundry, North Manchester, IN; Notice of Termination of Investigation

Pursuant to section 221 of the Trade Act of 1974, as amended, an investigation was initiated on January 15, 2004 in response to a petition filed by United Steelworkers of America Local 626, on behalf of workers at North Manchester Foundry, North Manchester, Indiana.

The Department has been unable to locate the petitioner. Therefore, the petition is deemed invalid. Further investigation in this case would serve no purpose, and the investigation has been terminated.

Signed at Washington, DC, this 11th day of February, 2004.
Linda G. Poole,
Certifying Officer, Division of Trade Adjustment Assistance.

[FR Doc. 04-3920 Filed 2-23-04; 8:45 am]

BILLING CODE 4510-30-P